DEPARTMENT OF THE INTERIOR

National Park Service

[NPS-WASO-NAGPRA-NPS0033206; PPWOCRADN0-PCU00RP14.R50000]

Notice of Inventory Completion: Fowler Museum at the University of California Los Angeles, Los Angeles, CA; Correction

AGENCY: National Park Service, Interior.

ACTION: Notice; correction.

SUMMARY: The Fowler Museum at the University of California Los Angeles (Fowler Museum at UCLA) has corrected an inventory of human remains and associated funerary objects, published in a Notice of Inventory Completion in the Federal Register on July 19, 2021. This notice corrects the number of associated funerary objects. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by February 9, 2022.

FOR FURTHER INFORMATION CONTACT: Wendy G Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the correction of an inventory of human remains and associated funerary objects under the control of the Fowler Museum at the University of California Los Angeles, Los Angeles, CA. The human remains and associated funerary objects were removed from San Luis Obispo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (86 FR 38118-38120, July 19, 2021). On October 7, 2021, the Fowler Museum at UCLA transferred human remains from site SLO-157 to the Santa Ynez Band of Chumash Mission Indians of the Santa Ynez Reservation, California. Following repatriation, additional associated funerary objects were discovered. Transfer of control of the items in this correction notice has not occurred.

Correction

In the Federal Register of July 19, 2021, in FR Doc 2021-15252, on page 38119, in the first column, second paragraph, correct the 12th sentence to read:

Accession 290 includes five associated funerary objects that are two flakes, one core, and two scrapers.

In the Federal Register of July 19, 2021, in FR Doc 2021-15252, on page 38119, in the third column, first paragraph, correct sentence 2 under the heading “Determinations Made by the Fowler Museum at the University of California Los Angeles,” to read:

Pursuant to 25 U.S.C. 3001(3)(A), the 83 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Wendy G Teeter, Ph.D., Fowler Museum at UCLA, Box 951549, Los Angeles, CA 90095-1549, telephone (310) 825-1864, email wteeter@arts.ucla.edu, by February 9, 2022. After that date, if no additional requestors have come forward, transfer of control of the human remains and associated funerary objects to the Santa Ynez Band of Chumash Mission Indians of the Santa Ynez Reservation, California may proceed.

The Fowler Museum at the University of California Los Angeles is responsible for notifying the Indian Tribes and Groups referred to in the July 19, 2021 notice as “The Consulted Tribes and Groups” that this notice has been published.

Dated: January 3, 2022.
Melanie O'Brien,
Manager, National NAGPRA Program.

[FR Doc. 2022-00228 Filed 1-7-22; 8:45 am]

BILLING CODE 4312-52-P